DEPARTMENT OF HOMELAND SECURITY

U.S. Citizenship and Immigration Services

Agency Information Collection Activities: Extension of a Currently Approved Information Collection; Comment Request

ACTION: 30-Day Notice of Information Collection Under Review: Nonimmigrant Petition Based on Blanket L Petition, Form I-129S, OMB Control Number 1615-0010.

The Department of Homeland Security, U.S. Citizenship and Immigration Services (USCIS) has submitted the following information collection request to the Office of Management and Budget (OMB) for review and clearance in accordance with the Paperwork Reduction Act of 1995. The information collection was previously published in the Federal Register on August 6, 2006 at 71 FR 44306, allowing for a 60-day public comment period. No comments were received on this information collection.

The purpose of this notice is to allow an additional 30 days for public comments. Comments are encouraged and will be accepted until November 22, 2006. This process is conducted in accordance with 5 CFR 1320.10.

Written comments and/or suggestions regarding the item(s) contained in this notice, especially regarding the estimated public burden and associated response time, should be directed to the Department of Homeland Security (DHS), and to the Office of Management and Budget (OMB) USCIS Desk Officer. Comments may be submitted to: USCIS, Director, Regulatory Management Division, Clearance Office, 111 Massachusetts Avenue, 3rd floor Suite 3008, Washington, DC 20529. Comments may also be submitted to DHS via facsimile to 202-272-8352 or via e-mail at rfs.regs@dhs.gov, and to the OMB USCIS Desk Officer via facsimile at 202-395-6974 or via e-mail at kastrich@omb.eop.gov.

When submitting comments by e-mail please make sure to add OMB Control Number 1615-0010. Written comments and suggestions from the public and affected agencies should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques and forms of information technology, e.g., permitting electronic submission of responses.

Overview of This Information Collection

(1) Type of Information Collection: Extension of a previously approved information collection.

(2) Title of the Form/Collection: Nonimmigrant Petition Based on Blanket L Petition.

(3) Agency form number, if any, and the applicable component of the Department of Homeland Security sponsoring the collection: Form I-129S, U.S. Citizenship and Immigration Services.

(4) Affected public who will be asked or required to respond, as well as a brief abstract: Primary: Individuals or households. This information collection will be used by an employer to classify employees as L-1 nonimmigrant intracompany transferees under a blanket L petition approval. The USCIS will use the data on this form to determine eligibility for the requested immigration benefit.

(5) An estimate of the total number of respondents and the amount of time estimated for an average respondent to respond: 250,000 responses at 35 minutes (.583 hours) per response.

(6) An estimate of the total public burden (in hours) associated with the collection: 145,750 annual burden hours.

If you have additional comments, suggestions, or need a copy of the proposed information collection instrument with instructions, or additional information, please visit the USCIS Web site at: http://uscis.gov/graphics/formsfee/forms/pra/index.htm.

If additional information is required contact: USCIS, Regulatory Management Division, 111 Massachusetts Avenue, 3rd Floor Suite 3008, Washington, DC 20529, (202) 272-8377.

Dated: October 18, 2006.
Stephen Tarragon,
Deputy Director, Regulatory Management Division, U.S. Citizenship and Immigration Services, Department of Homeland Security.

[FR Doc. E6-17664 Filed 10-20-06; 8:45 am]

BILLING CODE 4410-10-P